DEPARTMENT OF AGRICULTURE

Forest Service

Notice of Proposed New Fee Sites; Federal Lands Recreation Enhancement Act

AGENCY: Francis Marion & Sumter National Forests, USDA Forest Service.

ACTION: Notice of proposed new fee sites.

SUMMARY: The Francis Marion & Sumter National Forests in South Carolina are proposing to charge new fees at eight rifle range facilities: Cedar Creek, Indian Creek, Fairforest, Leeds, Philson Crossroads, Beaver Dam Creek, Candy Branch and Boggy Head Rifle Ranges. All sites have recently been reconstructed to improve services and experiences. The proposed new fees to help maintain these sites would be $5 per person per day or $40 per person per year. Fees are assessed based on the level of amenities and services provided, cost of operation and maintenance, market assessment, and public comment.

DATES: Send any comments about these fee proposals by August 6, 2018 so comments can be compiled, analyzed and shared with a Recreation Resource Advisory Committee. New fees would begin after July 2018.

ADDRESSES: John Richard Lint, Forest Supervisor, Francis Marion & Sumter National Forests, 4931 Broad River Road, Columbia, SC 29212.

FOR FURTHER INFORMATION CONTACT: Joe Robles, Recreation Fee Coordinator, 803-561-4067. Information about proposed fee changes can also be found on the Francis Marion & Sumter National Forests website: http://www.fs.usda.gov/scnfs.

SUPPLEMENTARY INFORMATION: The Federal Recreation Lands Enhancement Act (Title VII, Pub. L. 108-447) directed the Secretary of Agriculture to publish a six month advance notice in the Federal Register whenever new recreation fee areas are established. These eight shooting ranges are experiencing unprecedented use/demand with the associated impacts to the facilities themselves and surrounding natural resources. New fees would help with enforcing range rules to keep the facilities safe and clean; maintaining shooting range structures (e.g., berms, swales, settling ponds) and ground cover (grass) to mitigate runoff and pollution; and performing annual soil and water testing and lead abatement work. Fees would also help to improve the facilities with items such as better parking facilities, shelter roof modifications to incorporate baffles, and making enhancements like establishing designated pistol ranges.

Once public involvement is complete, these new fees will be reviewed by the Southern Region Recreation Resource Advisory Committee prior to a final decision and implementation.

Dated: May 17, 2018.
Glen Casamassa,
Associate Deputy Chief, National Forest System.

[FR Doc. 2018-14405 Filed 7-3-18; 8:45 am]

BILLING CODE 3411-15-P